DEPARTMENT OF ENERGY

National Nuclear Security Administration

Draft Site-Wide Environmental Impact Statement for Continued Operation of Lawrence Livermore National Laboratory and Supplemental Stockpile Stewardship and Management Programmatic Environmental Impact Statement

AGENCY: Department of Energy (DOE), National Nuclear Security Administration (NNSA).

ACTION: Notice of availability and public hearings.

SUMMARY: NNSA announces the availability of the Draft Site-wide Environmental Impact Statement for Continued Operation of Lawrence Livermore National Laboratory and Supplemental Stockpile Stewardship and Management Programmatic Environmental Impact Statement (DOE/EIS-0348 and DOE/EIS-0236-S3) (LLNL SW/SPEIS). The Draft LLNL SW/SPEIS was prepared in accordance with the Council on Environmental Quality's National Environmental Policy Act (NEPA) Implementing Regulations (40 CFR parts 1500-1508) and the DOE NEPA Implementing Procedures (10 CFR part 1021). The Draft LLNL SW/SPEIS analyzes the potential environmental impacts associated with continuing current Lawrence Livermore National Laboratory (LLNL) operations and foreseeable new and/or modified operations and facilities. The Draft LLNL SW/SPEIS analyzes a Proposed Action and two alternatives; the No Action Alternative and a Reduced Operation Alternative. The No Action Alternative would continue operation of current LLNL programs in support of currently assigned missions. The Proposed Action includes operations discussed under the No Action Alternative plus new and/or expanded LLNL operations in support of reasonably foreseeable future mission requirements. The Reduced Operation Alternative includes an overall reduction of LLNL activities below the No Action Alternative level. This Notice of Availability also sets forth the dates, times, and locations for public hearings on the Draft LLNL SW/SPEIS.

DATES: NNSA invites Federal agencies, State and local governments, Native American tribes, and the public to comment on the Draft LLNL SW/SPEIS. The comment period extends from the publication of this Notice of Availability through May 27, 2004. Written comments must be submitted by May 27, 2004. Comments submitted after this date will be considered to the extent practicable. The NNSA will consider the comments in the preparation of the Final LLNL SW/SPEIS. Public hearings to present information and receive comments on the Draft LLNL SW/SPEIS will be held at three locations. This information will also be published in local California newspapers in advance of the hearings. Any necessary changes will be announced in the local media and on the web site noted in the ADDRESSES section of this notice. Oral and written comments will be accepted at the public hearings.

The locations, dates, and times for these public hearings are as follows:

Tuesday, April 27, 2004 at 1 p.m. and 6 p.m., Livermore Double Tree Club Hotel, 720 Las Flores Road, Livermore, CA, (925) 443-4950;

Wednesday, April 28, 2004 at 1 p.m. and 6:30 p.m., Tracy Holiday Inn Express, 3751 N. Tracy Boulevard, Tracy, CA, (209) 830-8500;

Friday, April 30, 2004 at 10 a.m., U.S. Department of Energy, 1000 Independence Ave, SW., Room 1E-245, Washington, DC (202) 586-3012.

The following Web site may be accessed for additional information: http://www-envirinfo.llnl.gov/. For information or instructions on how to record comments call 1-877-388-4930.

ADDRESSES: Send written comments on the Draft LLNL SW/SPEIS or requests for copies of the Draft LLNL SW/SPEIS to: Mr. Thomas Grim, Document Manager, National Nuclear Security Administration, Livermore Site Office, L-293, 7000 East Avenue, Livermore, CA 94550-9234. Phone (925) 422-0704 or toll free 1-877-388-4930. Comments can be mailed to Mr. Grim at the address above, faxed to (925) 422-1776, or e-mailed to tom.grim@oak.doe.gov. Please mark correspondence “Draft LLNL SW/SPEIS Comments”. The Draft LLNL SW/SPEIS will be available on the LLNL Environmental Community Relations Web site at http://www-envirinfo.llnl.gov/.

A copy of the Draft LLNL SW/SPEIS will be available at several locations: The Livermore Public Library, 1000 South Livermore Avenue, Livermore California. The Tracy Public Library, 20 East Eaton Avenue, Tracy, CA. The LLNL Public Reading Room, LLNL Visitors Center, Building 6525, located at the East Gate Entrance off Greenville Road, Livermore, California (925) 424-4026. The NNSA Energy Information Center, eighth floor, north tower, Oakland Federal Building, 1301 Clay Street, Oakland, CA 94612 (510) 637-1762. The DOE Freedom of Information Act Office and Reading Room, Room 1E-190, 1000 Independence Ave, SW., Washington, DC 20585 (202) 586-3142.

FOR FURTHER INFORMATION CONTACT: For general information on the NNSA NEPA process, please contact: Ms. Janet Neville, NEPA Compliance Officer, U.S. Department of Energy, NNSA Service Center, 1301 Clay Street, 700N, Oakland, CA 94612-5208, (510) 637-1813 or Mr. James J. Mangeno, NNSA NEPA Compliance Officer, U.S. Department of Energy/NNSA, 1000 Independence Avenue, SW., Washington, DC 20585; 1-202-586-8395. For general information on the DOE NEPA process, please contact: Ms. Carol M. Borgstrom, Director, Office of NEPA Policy and Compliance, EH-42, U.S. Department of Energy, 1000 Independence Avenue, SW., Washington, DC 20585, (202) 586-4600, or leave a message at 1-800-472-2756.

SUPPLEMENTARY INFORMATION: The primary purpose and need for continued operation of LLNL is to provide support for the NNSA stockpile stewardship missions. LLNL is also needed to support other DOE programs and Federal agencies such as the Department of Defense, Nuclear Regulatory Commission, Environmental Protection Agency, and the Department of Homeland Security. The Draft LLNL SW/SPEIS analyzes the environmental impacts of these operations.

LLNL was founded in September 1952 as a second nuclear weapons design laboratory to support design of our Nation's nuclear stockpile. LLNL consists of two sites: The Livermore Site located in Livermore, California in Alameda County, and Site 300 a high-explosives test site, located near Tracy, California, in San Joaquin and Alameda counties. The Livermore Site is the primary LLNL site and is located approximately 40 miles east of San Francisco in the Livermore Valley on the east side of the city of Livermore. Site 300 is located 12 miles southeast of the city of Livermore between Livermore and Tracy, California.

The alternatives evaluated in the Draft LLNL SW/SPEIS represent a range of operation from the minimum level that maintains core capabilities (Reduced Operation Alternative) to the highest reasonable activity levels that could be supported by current facilities, plus the potential expansion and construction of new facilities for specifically identified future actions (Proposed Action). The No Action Alternative would continue operation of current LLNL programs in support of assigned missions and includes approved interim actions and facility construction, expansion or modification, and decontamination and decommissioning for which NEPA analysis and documentation already exists. All alternatives assume LLNL will continue to operate as an NNSA national laboratory. However, the Reduced Operation Alternative includes an overall reduction of LLNL activities to a level that would prevent LLNL from accomplishing the full scope of the currently assigned NNSA Stockpile Stewardship Program missions. The Proposed Action includes operations discussed under the No Action Alternative plus new and/or expanded LLNL operations in support of future mission requirements.

Use of Proposed Materials on the National Ignition Facility

Paragraph 6 of the Memorandum Opinion and Order issued by the U.S. District Court for the District of Columbia on August 19, 1998 in NRDC v. Pena, Civ. No. 97-936 (SS) (D.D.C.), provides that:

No later than January 1, 2004, DOE shall (1) determine whether any or all experiments using plutonium, other fissile materials, fissionable materials other than depleted uranium (as discussed in the Supplement Analysis for the Use of Hazardous Materials in NIF experiments, A.R. doc. VII.A-12), lithium hydride, or a Neutron Multiplying Assembly (NEUMA), such as that described in the document entitled Nuclear Weapons Effects Test Facilitization of the National Ignition Facility (A.R. doc. VII.A-4) shall be conducted in the NIF, or (2) prepare a Supplemental SSM PEIS, in accordance with DOE NEPA regulation 10 CFR § 1021.314, analyzing the reasonably foreseeable environmental impact of such experiments.

In November 2002, the NNSA proposed experiments on the National Ignition Facility (NIF) using plutonium, other fissile materials, fissionable materials, and lithium hydride. The Draft LLNL SW/SPEIS analyzes the reasonably foreseeable environmental impacts of these experiments. There is no NNSA proposal to use a NEUMA. In the Record of Decision, NNSA will address decisions on the use of any or all of these proposed materials in NIF experiments within the context of continuing LLNL operations.

After the end of the public comment period which ends on May 27, 2004, the NNSA will consider and respond to the comments received, revise the Draft LLNL SW/SPEIS as appropriate, and issue the Final LLNL SW/SPIES. The NNSA will consider the analysis in the Final LLNL SW/SPEIS, along with other information, in making a decision on the operation of the LLNL.

Issued in Washington, DC, this 30th day of January 2004.
Linton F. Brooks,
Administrator, National Nuclear Security Administration.

[FR Doc. 04-4358 Filed 2-26-04; 8:45 am]

BILLING CODE 6450-01-P